DEPARTMENT OF COMMERCE

International Trade Administration

[A-580-886]

Ferrovanadium From the Republic of Korea: Antidumping Duty Order

AGENCY: Enforcement and Compliance, International Trade Administration, Department of Commerce.

SUMMARY: Based on an affirmative final determination by the Department of Commerce (the Department) and an affirmative final determination by the International Trade Commission (the ITC), the Department is issuing an antidumping duty order on ferrovanadium from the Republic of Korea (Korea).

DATES: Effective May 15, 2017.

FOR FURTHER INFORMATION CONTACT: Karine Gziryan or Eli Lovely, AD/CVD Operations, Office IV, Enforcement and Compliance, International Trade Administration, U.S. Department of Commerce, 1401 Constitution Avenue NW., Washington, DC 20230; telephone: (202) 482-4081 or (202) 482-1593, respectively.

SUPPLEMENTARY INFORMATION:

Background

In accordance with sections 735(d) and 777(i)(1) of the Tariff Act of 1930, as amended (the Act), and 19 CFR 351.210(c), on March 23, 2017, the Department published its final affirmative determination of sales at less-than-fair-value (LTFV) with respect to ferrovanadium from Korea.¹ On May 8, 2017, the ITC notified the Department of its final affirmative determination that an industry in the United States is materially injured within the meaning of section 735(b)(1)(A)(i) of the Act, by reason of the LTFV imports of ferrovanadium from Korea.²

¹ See Ferrovanadium From the Republic of Korea: Final Determination of Sales at Less Than Fair Value, 82 FR 14874 (March 23, 2017).

² See Letter to Ronald Lorentzen, Acting Assistant Secretary of Commerce for Enforcement and Compliance, from Rhonda K. Schmidtlein, Chairman of the U.S. International Trade Commission, regarding ferrovanadium from the Republic of Korea (April 08, 2017).

Scope of the Order

The product covered by this order is all ferrovanadium regardless of grade (i.e., percentage of contained vanadium), chemistry, form, shape, or size. Ferrovanadium is an alloy of iron and vanadium. Ferrovanadium is classified under Harmonized Tariff Schedule of the United States (“HTSUS”) item number 7202.92.0000. Although this HTSUS item number is provided for convenience and customs purposes, the written description of the scope of the order is dispositive.

Antidumping Duty Order

As stated above, on May 8, 2017, in accordance with section 735(d) of the Act, the ITC notified the Department of its final determination that the industry in the United States producing ferrovanadium is materially injured by reason of the LTFV imports of ferrovanadium from Korea.³ Therefore, in accordance with section 735(c)(2) of the Act, the Department is issuing this antidumping duty order. Because the ITC determined that imports of ferrovanadium from Korea are materially injuring a U.S. industry, unliquidated entries of such merchandise from Korea entered, or withdrawn from warehouse, for consumption are subject to the assessment of antidumping duties.

³ Id.

As a result of the ITC's final affirmative determination, in accordance with section 736(a)(1) of the Act, the Department will direct U.S. Customs and Border Protection (CBP) to assess, upon further instruction by the Department, antidumping duties equal to the amount by which the normal value of the merchandise exceeds the export price of the merchandise, for all relevant entries of ferrovanadium from Korea. Antidumping duties will be assessed on unliquidated entries of ferrovanadium from Korea entered, or withdrawn from warehouse, for consumption on or after November 1, 2016, the date of publication of the Preliminary Determination,⁴ but will not include entries occurring after the expiration of the provisional measures period and before publication of the ITC's final injury determination as further described below.

⁴ See Ferrovanadium from the Republic of Korea: Affirmative Preliminary Determination of Sales at Less Than Fair Value and Postponement of Final Determination and Extension of Provisional Measures, 81 FR 75806 (November 1, 2016) (“Preliminary Determination”).

Continuation of Suspension of Liquidation

In accordance with section 735(c)(1)(B) of the Act, the Department will instruct CBP to continue to suspend liquidation on all relevant entries of ferrovanadium from Korea. These instructions suspending liquidation will remain in effect until further notice.

The Department will also instruct CBP to require cash deposits equal to the estimated weighted-average dumping margins indicated below. Accordingly, effective on the date of publication of the ITC's final affirmative injury determination, CBP will require, at the same time as importers would normally deposit estimated duties on this subject merchandise, a cash deposit equal to the estimated weighted-average antidumping duty margins listed below.⁵ The all-others rate applies to all producers or exporters not specifically listed.

⁵ See Section 736(a)(3) of the Act.

Provisional Measures

Section 733(d) of the Act states that instructions issued pursuant to an affirmative preliminary determination may not remain in effect for more than four months, except where exporters representing a significant proportion of exports of the subject merchandise request the Department to extend that four-month period to no more than six months. At the request of an exporter accounting for a significant proportion of ferrovanadium from Korea, the Department extended the four-month period to six months.⁶ The Department published the Preliminary Determination in this investigation on November 1, 2016. Therefore, the extended period, beginning on the date of publication of the Preliminary Determination, ended on April 29, 2017. Furthermore, section 737(b) of the Act states that definitive duties are to begin on the date of publication of the ITC's final injury determination.

⁶ See Preliminary Determination.

Therefore, in accordance with section 733(d) of the Act and our practice, the Department will instruct CBP to terminate the suspension of liquidation and to liquidate, without regard to antidumping duties, unliquidated entries of ferrovanadium from Korea entered, or withdrawn from warehouse, for consumption after April 29, 2017, the date on which the provisional measures expired, until and through the day preceding the date of publication of the ITC's final injury determination in the Federal Register. Suspension of liquidation will resume on the date of publication of the ITC's final determination in the Federal Register.

Estimated Weighted-Average Dumping Margins

The estimated weighted-average antidumping duty margins are as follows:

Exporter/Producer | Weighted-average dumping margins (percent)
Korvan Ind. Co., Ltd. | 3.22
Fortune Metallurgical Group Co., Ltd. | 54.69
Woojin Ind. Co., Ltd. | 54.69
All-Others | 3.22

Notification to Interested Parties

This notice constitutes the antidumping duty order with respect to ferrovanadium from Korea pursuant to section 736(a) of the Act. Interested parties can find a list of antidumping duty orders currently in effect at http://enforcement.trade.gov/stats/iastats1.html.

This order is published in accordance with section 736(a) of the Act and 19 CFR 351.211(b).

Dated: May 9, 2017.
Gary Taverman,
Associate Deputy Assistant Secretary for Antidumping and Countervailing Duty Operations.

[FR Doc. 2017-09745 Filed 5-12-17; 8:45 am]

BILLING CODE 3510-DS-P